DEPARTMENT OF THE TREASURY

Internal Revenue Service

Renewal of the Taxpayer Advocacy Panel Charter

AGENCY: Internal Revenue Service (IRS) Treasury.

ACTION: Notice of Charter Reestablishment.

SUMMARY: Pursuant to section 14(a)(2)(A) of the Federal Advisory Committee Act (Pub. L. 92-463) and in accordance with title 41 of the Code of Federal Regulations, section 102-3.65, notice is herby given that the Taxpayer Advocacy Panels (TAP) charter has been renewed by the Department of the Treasury, for a two-year period. The charter of this advisory committee was filed with the appropriate committees of Congress, the General Services Administration and the Library of Congress on March 17, 2006, and shall expire two years from the original filing date.

SUPPLEMENTARY INFORMATION: This charter is prepared and filed in accordance with the provisions of the Federal Advisory Committee Act, Public Law 92-463 (5 U.S.C. App.). The establishment and the operation of the advisory committee are authorized pursuant to the authority of the Secretary of the Treasury to administer the internal revenue laws under section 7801 of the Internal Revenue Code. That authority is delegated to the Commissioner of the Internal Revenue. The TAP provides a taxpayer perspective on critical tax administration programs and helps to identify grass roots tax issues. The TAP will operate in accordance with the Federal Advisory Committee Act and its implementing regulations.

FOR FURTHER INFORMATION CONTACT: Bernard E. Coston, Director, Taxpayer Advocacy Panel at 202-622-5007, or (404) 338-8408.

Dated: April 5, 2006.
Bernard E. Coston,
Director, Taxpayer Advocacy Panel.

[FR Doc. E6-5233 Filed 4-10-06; 8:45 am]

BILLING CODE 4830-01-P